DEPARTMENT OF ENERGY

Federal Energy Regulatory Commission

Combined Notice of Filings

Take notice that the Commission has received the following Natural Gas Pipeline Rate and Refund Report filings:

Filings Instituting Proceedings

Docket Numbers: PR25-14-000.

Applicants: Regency Intrastate Gas LP.

Description: § 284.123(g) Rate Filing: Normal filing 2024 Nov 1st—Exhibit D to be effective 11/1/2024.

Filed Date: 11/1/24.

Accession Number: 20241101-5179.

Comment Date: 5 p.m. ET 11/22/24.

§ 284.123(g) Protest: 5 p.m. ET 12/31/24.

Docket Numbers: PR25-15-000.

Applicants: Pelico Pipeline, LLC.

Description: § 284.123(g) Rate Filing: Normal filing 2024 Nov 1st—SOC to be effective 11/1/2024.

Filed Date: 11/1/24.

Accession Number: 20241101-5239.

Comment Date: 5 p.m. ET 11/22/24.

§ 284.123(g) Protest: 5 p.m. ET 12/31/24.

Docket Numbers: RP25-165-000.

Applicants: Texas Gas Transmission, LLC.

Description: § 4(d) Rate Filing: Cap Rel Neg Rate Agmt (Jay-Bee 34446 to Spotlight 58564) to be effective 11/1/2024.

Filed Date: 11/1/24.

Accession Number: 20241101-5121.

Comment Date: 5 p.m. ET 11/13/24.

Docket Numbers: RP25-166-000.

Applicants: Great Lakes Gas Transmission Limited Partnership.

Description: § 4(d) Rate Filing: Creditworthiness and Probability of Default to be effective 12/1/2024.

Filed Date: 11/1/24.

Accession Number: 20241101-5124.

Comment Date: 5 p.m. ET 11/13/24.

Docket Numbers: RP25-167-000.

Applicants: Texas Gas Transmission, LLC.

Description: § 4(d) Rate Filing: Cap Rel Neg Rate Agmt (Kaiser Ohio 35448 to Kaiser Appalachian 58537) to be effective 11/1/2024.

Filed Date: 11/1/24.

Accession Number: 20241101-5127.

Comment Date: 5 p.m. ET 11/13/24.

Docket Numbers: RP25-168-000.

Applicants: Gulf South Pipeline Company, LLC.

Description: § 4(d) Rate Filing: Cap Rel Neg Rate Agmt (Methanex 52142 to Tenaska 58578) to be effective 11/1/2024.

Filed Date: 11/1/24.

Accession Number: 20241101-5145.

Comment Date: 5 p.m. ET 11/13/24.

Docket Numbers: RP25-169-000.

Applicants: Gulf Shore Energy Partners, LP.

Description: § 4(d) Rate Filing: Gulf Shore Negotiated Rate Filing to be effective 11/1/2024.

Filed Date: 11/1/24.

Accession Number: 20241101-5156.

Comment Date: 5 p.m. ET 11/13/24.

Docket Numbers: RP25-170-000.

Applicants: Alliance Pipeline L.P.

Description: § 4(d) Rate Filing: Negotiated Rates Contract Adj, Perm and Temp Releases 2024-11-01 to be effective 11/1/2024.

Filed Date: 11/1/24.

Accession Number: 20241101-5161.

Comment Date: 5 p.m. ET 11/13/24.

Docket Numbers: RP25-171-000.

Applicants: Gulf South Pipeline Company, LLC.

Description: § 4(d) Rate Filing: Cap Rel Neg Rate Agmt (Methanex 42805 to Tenaska 58579) to be effective 11/1/2024.

Filed Date: 11/1/24.

Accession Number: 20241101-5165.

Comment Date: 5 p.m. ET 11/13/24.

Docket Numbers: RP25-172-000.

Applicants: Gulf South Pipeline Company, LLC.

Description: § 4(d) Rate Filing: 2024 Fuel Tracker Filing to be effective 4/1/2025.

Filed Date: 11/1/24.

Accession Number: 20241101-5168.

Comment Date: 5 p.m. ET 11/13/24.

Docket Numbers: RP25-173-000.

Applicants: Gulf South Pipeline Company, LLC.

Description: § 4(d) Rate Filing: 2024 Electric Power Cost Tracker Fiiling to be effective 4/1/2025.

Filed Date: 11/1/24.

Accession Number: 20241101-5174.

Comment Date: 5 p.m. ET 11/13/24.

Docket Numbers: RP25-174-000.

Applicants: Gulf South Pipeline Company, LLC.

Description: § 4(d) Rate Filing: Cap Rel Neg Rate Agmts (WSGP to NextEra) to be effective 11/1/2024.

Filed Date: 11/1/24.

Accession Number: 20241101-5188.

Comment Date: 5 p.m. ET 11/13/24.

Docket Numbers: RP25-175-000.

Applicants: Gulf South Pipeline Company, LLC.

Description: § 4(d) Rate Filing: Cap Rel Neg Rate Agmts (Aethon 53154 to Scona 58597) to be effective 11/1/2024.

Filed Date: 11/1/24.

Accession Number: 20241101-5198.

Comment Date: 5 p.m. ET 11/13/24.

Docket Numbers: RP25-176-000.

Applicants: Gulf South Pipeline Company, LLC.

Description: § 4(d) Rate Filing: Cap Rel Neg Rate Agmt (Osaka 46429 to Texla 58650) to be effective 11/1/2024.

Filed Date: 11/1/24.

Accession Number: 20241101-5203.

Comment Date: 5 p.m. ET 11/13/24.

Docket Numbers: RP25-177-000.

Applicants: Carlsbad Gateway, LLC.

Description: Penalty Revenue Crediting Report of Carlsbad Gateway, LLC.

Filed Date: 11/1/24.

Accession Number: 20241101-5222.

Comment Date: 5 p.m. ET 11/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-1047-001.

Applicants: Transwestern Pipeline Company, LLC.

Description: Compliance filing: Compliance Filing—Docket No. RP24-1047-000 to be effective 12/31/9998.

Filed Date: 11/4/24.

Accession Number: 20241104-5088.

Comment Date: 5 p.m. ET 11/18/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 4, 2024.
Carlos D. Clay,
Acting Deputy Secretary.

[FR Doc. 2024-25993 Filed 11-7-24; 8:45 am]

BILLING CODE 6717-01-P